DEPARTMENT OF THE INTERIOR

National Park Service

[NPS-SERO-RTCA-22523; PPMPSPD1T.Y00000; PPSESERO10]

Wekiva River System Advisory Management Committee 2017 Meeting Schedule

AGENCY: National Park Service, Interior.

ACTION: Meeting notice.

SUMMARY: Notice is hereby given in accordance with the Federal Advisory Committee Act, (5 U.S.C. Appendix 1-16), of the 2017 meeting schedule for the Wekiva River System Advisory Management Committee.

DATES: The meetings are scheduled for: Wednesday, January 18, 2017; Wednesday, March 8, 2017; Tuesday, May 2, 2017; Wednesday, September 13, 2017; and Wednesday, November 8, 2017 (EASTERN). All meetings will begin at 2:00 p.m. and will end by 4:00 p.m.

ADDRESSES: All scheduled meetings will be held at the Wekiwa Springs State Park, 1800 Wekiwa Circle, Apopka, Florida 32712. Call (407) 884-2006 or visit online at floridastateparks.org/wekiwasprings/ for additional information on this facility.

FOR FURTHER INFORMATION CONTACT: Jaime Doubek-Racine, Community Planner and Designated Federal Official, Rivers, Trails, and Conservation Assistance Program, Florida Field Office, Southeast Region, 5342 Clark Road, PMB #123, Sarasota, Florida 34233, or via telephone (941) 685-5912.

SUPPLEMENTARY INFORMATION: The Wekiva River System Advisory Management Committee was established by Public Law 106-299 to assist in the development of the comprehensive management plan for the Wekiva River System and provide advice to the Secretary of the Interior in carrying out her management responsibilities under the Wild and Scenic Rivers Act (16 U.S.C. 1274). Efforts have been made locally to ensure that the interested public is aware of the meeting dates.

The scheduled meetings will be open to the public. Each scheduled meeting will result in decisions and steps that advance the Wekiva River System Advisory Management Committee towards its objective of managing and implementing projects developed from the Comprehensive Management Plan for the Wekiva Wild and Scenic River.

Any member of the public may file with the Committee a written statement concerning any issues relating to the development of the Comprehensive Management Plan for the Wekiva Wild and Scenic River. Before including your address, telephone number, email address, or other personal identifying information in your comments, you should be aware that your entire comment—including your personal identifying information—may be made publicly available at any time. While you may ask us in your comment to withhold your personal identifying information from public review, we cannot guarantee that we will be able to do so. The statement should be addressed to the Wekiva River System Advisory Management Committee, National Park Service, 5342 Clark Road, PMB #123, Sarasota, Florida 34233.

Alma Ripps
Chief, Office of Policy.

[FR Doc. 2016-30791 Filed 12-21-16; 8:45 am]

BILLING CODE 4312-52-P